DEPARTMENT OF COMMERCE

National Oceanic and Atmospheric Administration

RIN 0648-XO42

Marine Mammals; File Nos. 14197 and 782-1812

AGENCY: National Marine Fisheries Service (NMFS), National Oceanic and Atmospheric Administration (NOAA), Commerce.

ACTION: Notice; issuance of permit and permit amendment.

SUMMARY: Notice is hereby given that the U.S. Air Force, 30th Space Wing Civil Engineer Environmental Flight, Vandenberg Air Force Base, CA has been issued a permit to conduct research on marine mammals (File No. 14197); and NMFS National Marine Mammal Laboratory, Seattle, WA, has been issued a major amendment to Scientific Research Permit No. 782-1812 for research on marine mammals.

ADDRESSES: The permits and related documents are available for review upon written request or by appointment in the following office(s):

Permits, Conservation and Education Division, Office of Protected Resources, NMFS, 1315 East-West Highway, Room 13705, Silver Spring, MD 20910; phone (301)713-2289; fax (301)427-2521;

(File No. 782-1812 only) Northwest Region, NMFS, 7600 Sand Point Way NE, BIN C15700, Bldg. 1, Seattle, WA 98115-0700; phone (206)526-6150; fax (206)526-6426; and

Southwest Region, NMFS, 501 West Ocean Blvd., Suite 4200, Long Beach, CA 90802-4213; phone (562)980-4001; fax (562)980-4018.

FOR FURTHER INFORMATION CONTACT: Tammy Adams or Kate Swails, (301)713-2289.

SUPPLEMENTARY INFORMATION: On April 6, 2009, notice was published in the Federal Register (74 FR 15460) that requests for a permit and permit amendment to conduct research on marine mammals had been submitted by the above-named applicants. The requested permit and permit amendment have been issued under the authority of the Marine Mammal Protection Act of 1972, as amended (16 U.S.C. 1361 et seq.), and the regulations governing the taking and importing of marine mammals (50 CFR part 216).

Permit No. 14197 authorizes continued studies of the effects of noise from rocket and missile launches and subsequent launch-generated sonic booms on Pacific harbor seals (Phoca vitulina richardii), California sea lions (Zalophus californianus), and northern elephant seals (Mirounga angustirostris) at Vandenberg Air Force Base and the northern California Channel Islands. The permit is valid through June 30, 2014.

Permit No. 782-1812-00, issued on May 9, 2006 (71 FR 27996), authorizes research related to population and health assessment and studies of the ecology of and disease in California sea lions, northern elephant seals, harbor seals, and northern fur seals (Callorhinus ursinus) on the southern California Channel Islands, surrounding waters, and at haul-out sites along the coast of California, Oregon, and Washington. The amendment revises protocols and numbers related to research on California sea lions, and is valid through permit expiration on June 30, 2011.

In compliance with the National Environmental Policy Act of 1969 (42 U.S.C. 4321 et seq.), a final determination has been made that the activities proposed are categorically excluded from the requirement to prepare an environmental assessment or environmental impact statement.

Dated: June 29, 2009.
P. Michael Payne,
Chief, Permits, Conservation and Education Division, Office of Protected Resources, National Marine Fisheries Service.

[FR Doc. E9-15843 Filed 7-2-09; 8:45 am]

BILLING CODE 3510-22-S